DEPARTMENT OF ENERGY

Federal Energy Regulatory Commission

Combined Notice of Filings

Take notice that the Commission has received the following Natural Gas Pipeline Rate and Refund Report filings:

Docket Number: PR21-40-000.

Applicants: Southwest Gas Corporation.

Description: Tariff filing per 284.123(b), (e)+(g): Amended SOC for Blanket Certificate to be effective 4/1/2021.

Filed Date: 3/30/2021.

Accession Number: 202103305001.

Comments Due: 5 p.m. ET 4/20/2021.

284.123(g) Protests Due: 5 p.m. ET 6/1/2021.

Docket Numbers: RP21-664-000.

Applicants: Great Lakes Gas Transmission Limited Partnership.

Description: § 4(d) Rate Filing: WEPCO Neg Rate Agreement to be effective 4/1/2021.

Filed Date: 3/31/21.

Accession Number: 20210331-5015.

Comments Due: 5 p.m. ET 4/12/21.

Docket Numbers: RP21-665-000.

Applicants: Eastern Gas Transmission and Storage, Inc.

Description: § 4(d) Rate Filing: Eastern GTS—March 31, 2021 Negotiated Rate Agreement to be effective 4/1/2021.

Filed Date: 3/31/21.

Accession Number: 20210331-5020.

Comments Due: 5 p.m. ET 4/12/21.

Docket Numbers: RP21-666-000.

Applicants: Eastern Gas Transmission and Storage, Inc.

Description: § 4(d) Rate Filing: Eastern GTS—March 31, 2021 Administrative Changes to be effective 5/1/2021.

Filed Date: 3/31/21.

Accession Number: 20210331-5031.

Comments Due: 5 p.m. ET 4/12/21.

Docket Numbers: RP21-667-000.

Applicants: Eastern Gas Transmission and Storage, Inc.

Description: § 4(d) Rate Filing: Eastern GTS—March 31, 2021 MCS Negotiated Rate Agreements to be effective 4/1/2021.

Filed Date: 3/31/21.

Accession Number: 20210331-5036.

Comments Due: 5 p.m. ET 4/12/21.

Docket Numbers: RP21-668-000.

Applicants: Hardy Storage Company, LLC.

Description: § 4(d) Rate Filing: RAM 2021 to be effective 5/1/2021.

Filed Date: 3/31/21.

Accession Number: 20210331-5039.

Comments Due: 5 p.m. ET 4/12/21.

Docket Numbers: RP21-669-000.

Applicants: Cove Point LNG, LP.

Description: § 4(d) Rate Filing: Cove Point—March 31, 2021 Administrative Change to be effective 5/1/2021.

Filed Date: 3/31/21.

Accession Number: 20210331-5040.

Comments Due: 5 p.m. ET 4/12/21.

Docket Numbers: RP21-670-000.

Applicants: Carolina Gas Transmission, LLC.

Description: § 4(d) Rate Filing: Carolina Gas—March 31, 2021. Administrative Changes to be effective 5/1/2021.

Filed Date: 3/31/21.

Accession Number: 20210331-5058.

Comments Due: 5 p.m. ET 4/12/21.

Docket Numbers: RP21-671-000.

Applicants: Alliance Pipeline L.P.

Description: § 4(d) Rate Filing: Chinook Perm Release NRA to be effective 4/1/2021.

Filed Date: 3/31/21.

Accession Number: 20210331-5115.

Comments Due: 5 p.m. ET 4/12/21.

Docket Numbers: RP21-672-000.

Applicants: Gulf South Pipeline Company, LLC.

Description: § 4(d) Rate Filing: Cap Rel Neg Rate Agmts (FPL 41618, 41619 to Spire 53634, Eco-Energy 53741) to be effective 4/1/2021.

Filed Date: 3/31/21.

Accession Number: 20210331-5118.

Comments Due: 5 p.m. ET 4/12/21.

Docket Numbers: RP21-673-000.

Applicants: Gulf South Pipeline Company, LLC.

Description: § 4(d) Rate Filing: Cap Rel Neg Rate Agmt (JERA 46435 to EDF 53756) to be effective 4/1/2021.

Filed Date: 3/31/21.

Accession Number: 20210331-5119.

Comments Due: 5 p.m. ET 4/12/21.

Docket Numbers: RP21-674-000.

Applicants: Gulf South Pipeline Company, LLC.

Description: § 4(d) Rate Filing: Cap Rel Neg Rate Agmts (Atlanta Gas 8438 to various shippers eff 4-1-2021) to be effective 4/1/2021.

Filed Date: 3/31/21.

Accession Number: 20210331-5128.

Comments Due: 5 p.m. ET 4/12/21.

Docket Numbers: RP21-675-000.

Applicants: Gulf South Pipeline Company, LLC.

Description: § 4(d) Rate Filing: Cap Rel Neg Rate Agmts (Marathon 51753, 51754 to Spire 53914, 53915) to be effective 4/1/2021.

Filed Date: 3/31/21.

Accession Number: 20210331-5129.

Comments Due: 5 p.m. ET 4/12/21.

Docket Numbers: RP21-676-000.

Applicants: Gulf South Pipeline Company, LLC.

Description: § 4(d) Rate Filing: Cap Rel Neg Rate Agmt (Osaka 46429 to Texla 53939) to be effective 4/1/2021.

Filed Date: 3/31/21.

Accession Number: 20210331-5130.

Comments Due: 5 p.m. ET 4/12/21.

Docket Numbers: RP21-677-000.

Applicants: Texas Gas Transmission, LLC.

Description: § 4(d) Rate Filing: Indiana Gas Capacity Releases eff 4-1-2021 to be effective 4/1/2021.

Filed Date: 3/31/21.

Accession Number: 20210331-5156.

Comments Due: 5 p.m. ET 4/12/21.

Docket Numbers: RP21-678-000.

Applicants: Texas Gas Transmission, LLC.

Description: § 4(d) Rate Filing: Cap Rel Neg Rate Agmt (Jay-Bee 34447 to MacQuarie 39067) to be effective 4/1/2021.

Filed Date: 3/31/21.

Accession Number: 20210331-5157.

Comments Due: 5 p.m. ET 4/12/21.

Docket Numbers: RP21-679-000.

Applicants: Gulf South Pipeline Company, LLC.

Description: § 4(d) Rate Filing: Cap Rel Neg Rate Agmt (Pensacola 43993 to BP 53944) to be effective 4/1/2021.

Filed Date: 3/31/21.

Accession Number: 20210331-5166.

Comments Due: 5 p.m. ET 4/12/21.

Docket Numbers: RP21-680-000.

Applicants: Transcontinental Gas Pipe Line Company, LLC.

Description: § 4(d) Rate Filing: Negotiated Rates—Cherokee AGL—Replacement Shippers—Apr 2021 to be effective 4/1/2021.

Filed Date: 3/31/21.

Accession Number: 20210331-5167.

Comments Due: 5 p.m. ET 4/12/21.

Docket Numbers: RP21-681-000.

Applicants: Pine Needle LNG Company, LLC.

Description: § 4(d) Rate Filing: 2021 Annual Fuel and Electric Power Tracker Filing to be effective 5/1/2021.

Filed Date: 3/31/21.

Accession Number: 20210331-5206.

Comments Due: 5 p.m. ET 4/12/21.

Docket Numbers: RP21-682-000.

Applicants: Southwest Gas Storage Company.

Description: § 4(d) Rate Filing: Negotiated Rate Filing on 3-31-2021 to be effective 4/1/2021.

Filed Date: 3/31/21.

Accession Number: 20210331-5207.

Comments Due: 5 p.m. ET 4/12/21.

Docket Numbers: RP21-683-000.

Applicants: Rockies Express Pipeline LLC.

Description: § 4(d) Rate Filing: REX 2021-03-31 Negotiated Rate Agreements to be effective 4/1/2021.

Filed Date: 3/31/21.

Accession Number: 20210331-5225.

Comments Due: 5 p.m. ET 4/12/21.

Docket Numbers: RP21-684-000.

Applicants: Tallgrass Interstate Gas Transmission, LLC.

Description: § 4(d) Rate Filing: TIGT 2021-03-31 Negotiated Rate Agreement Amendment to be effective 4/1/2021.

Filed Date: 3/31/21.

Accession Number: 20210331-5226.

Comments Due: 5 p.m. ET 4/12/21.

Docket Numbers: RP21-685-000.

Applicants: El Paso Natural Gas Company, L.L.C.

Description: § 4(d) Rate Filing: Non-Conforming Letter Agreement Update (SWG) to be effective 5/1/2021.

Filed Date: 3/31/21.

Accession Number: 20210331-5240.

Comments Due: 5 p.m. ET 4/12/21.

Docket Numbers: RP21-686-000.

Applicants: Transcontinental Gas Pipe Line Company, LLC.

Description: § 4(d) Rate Filing: Crediting of Reservation Charges—GSS, S-2, LNG, and LG-A to be effective 5/1/2021.

Filed Date: 3/31/21.

Accession Number: 20210331-5249.

Comments Due: 5 p.m. ET 4/12/21.

Docket Numbers: RP21-687-000.

Applicants: Columbia Gas Transmission, LLC.

Description: § 4(d) Rate Filing: OTRA Summer 2021 to be effective 5/1/2021.

Filed Date: 3/31/21.

Accession Number: 20210331-5259.

Comments Due: 5 p.m. ET 4/12/21.

Docket Numbers: RP21-688-000.

Applicants: Cheniere Corpus Christi Pipeline L.P.

Description: Annual Operations Transaction Report for 2020 of Cheniere Corpus Christi Pipeline, L.P.

Filed Date: 3/31/21.

Accession Number: 20210331-5268.

Comments Due: 5 p.m. ET 4/12/21.

Docket Numbers: RP21-689-000.

Applicants: Cheniere Creole Trail Pipeline, L.P.

Description: Annual Operations Transaction Report for 2020 of Cheniere Creole Trail Pipeline, L. P.

Filed Date: 3/31/21.

Accession Number: 20210331-5283.

Comments Due: 5 p.m. ET 4/12/21.

Docket Numbers: RP21-690-000.

Applicants: Equitrans, L.P.

Description: § 4(d) Rate Filing: Negotiated Rate Service Agreement—BP effective 4/1/2021 to be effective 4/1/2021.

Filed Date: 3/31/21.

Accession Number: 20210331-5288.

Comments Due: 5 p.m. ET 4/12/21.

Docket Numbers: RP21-691-000.

Applicants: Midship Pipeline Company, LLC.

Description: Annual Operations Transaction Report for 2020 of Midship Pipeline Company, LLC.

Filed Date: 3/31/21.

Accession Number: 20210331-5302.

Comments Due: 5 p.m. ET 4/12/21.

Docket Numbers: RP21-692-000.

Applicants: Texas Eastern Transmission, LP.

Description: § 4(d) Rate Filing: Negotiated Rates—MC Global Amendment 911524 to be effective 4/1/2021.

Filed Date: 3/31/21.

Accession Number: 20210331-5322.

Comments Due: 5 p.m. ET 4/12/21.

Docket Numbers: RP21-693-000.

Applicants: Northern Natural Gas Company.

Description: § 4(d) Rate Filing: 20210331 Negotiated Rate to be effective 4/1/2021.

Filed Date: 3/31/21.

Accession Number: 20210331-5308.

Comments Due: 5 p.m. ET 4/12/21.

Docket Numbers: RP21-694-000.

Applicants: Equitrans, L.P.

Description: § 4(d) Rate Filing: Negotiated Rate Service Agreement—MEA effective 4/1/2021 to be effective 4/1/2021.

Filed Date: 3/31/21.

Accession Number: 20210331-5323.

Comments Due: 5 p.m. ET 4/12/21.

Docket Numbers: RP21-695-000.

Applicants: Equitrans, L.P.

Description: § 4(d) Rate Filing: Negotiated Rate FTS Service Agreements—effective 4/1/2021 to be effective 4/1/2021.

Filed Date: 3/31/21.

Accession Number: 20210331-5326.

Comments Due: 5 p.m. ET 4/12/21.

Docket Numbers: RP21-697-000.

Applicants: East Tennessee Natural Gas, LLC.

Description: 2019-2020 Cashout Report of East Tennessee Natural Gas, LLC.

Filed Date: 3/31/21.

Accession Number: 20210331-5396.

Comments Due: 5 p.m. ET 4/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2021.
Nathaniel J. Davis, Sr.,
Deputy Secretary.

[FR Doc. 2021-07157 Filed 4-6-21; 8:45 am]

BILLING CODE 6717-01-P